DEPARTMENT OF TRANSPORTATION

Federal Aviation Administration

14 CFR Part 39

[Docket No. FAA-2013-0692; Directorate Identifier 2012-NM-024-AD; Amendment 39-18031; AD 2014-23-15]

RIN 2120-AA64

Airworthiness Directives; Airbus Airplanes

AGENCY: Federal Aviation Administration (FAA), Department of Transportation (DOT).

ACTION: Final rule.

SUMMARY: We are superseding Airworthiness Directive (AD) AD 2011-14-06 for all Airbus Model A318, A319, A320, and A321 series airplanes. AD 2011-14-06 required revising the maintenance program. This new AD requires revising the maintenance program to incorporate new, more restrictive limitations. This AD was prompted by the determination that more restrictive limitations are necessary. We are issuing this AD to prevent fatigue cracking, accidental damage, or corrosion in principal structural elements, and possible failure of certain life limited parts, which could result in reduced structural integrity of the airplane.

DATES: This AD becomes effective March 2, 2015.

The Director of the Federal Register approved the incorporation by reference of certain publications listed in this AD as of March 2, 2015.

The Director of the Federal Register approved the incorporation by reference of certain other publications listed in this AD as of August 22, 2011 (76 FR 42024, July 18, 2011).

The Director of the Federal Register approved the incorporation by reference of certain other publications listed in this AD as of November 7, 2007 (72 FR 56262, October 3, 2007).

ADDRESSES: You may examine the AD docket on the Internet at http://www.regulations.gov/#!docketDetail;D=FAA-2013-0692; or in person at the Docket Management Facility, U.S. Department of Transportation, Docket Operations, M-30, West Building Ground Floor, Room W12-140, 1200 New Jersey Avenue SE., Washington, DC.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a supplemental notice of proposed rulemaking (SNPRM) to amend 14 CFR part 39 to supersede AD 2011-14-06, Amendment 39-16741 (76 FR 42024, July 18, 2011). AD 2011-14-06 applied to Airbus Model A318, A319, A320, and A321 series airplanes. The SNPRM published in the Federal Register on May 28, 2014 (79 FR 30492). We preceded the SNPRM with a notice of proposed rulemaking (NPRM) that published in the Federal Register on August 13, 2013 (78 FR 49213).

The European Aviation Safety Agency (EASA), which is the Technical Agent for the Member States of the European Community, has issued EASA Airworthiness Directive 2013-0147, dated July 16, 2013 (referred to after this as the Mandatory Continuing Airworthiness Information, or “the MCAI”), to correct an unsafe condition for all Airbus Model A318, A319, A320, and A321 series airplanes. The MCAI states:

The airworthiness limitations for Airbus A320 family aeroplanes are currently included in Airbus A318/A319/A320/A321 Airworthiness Limitations Section (ALS) document. The airworthiness limitations applicable to the Damage Tolerant Airworthiness Limitation Items (DT ALI) are currently given in Airbus ALS Part 2, which is approved by EASA.

Previously, EASA issued AD 2010-0071R1 [http://ad.easa.europa.eu/blob/easa_ad_2010_0071_R1.pdf/AD_2010-0071R1_1] [associated with FAA AD 2011-14-06, Amendment 39-16741 (76 FR 42024, July 18, 2011)], which required the implementation of the DT ALI maintenance instructions as specified in Airbus A318/A319/A320/A321 ALI Document ref. AI/SE-M4/95A.0252/96 issue 10 and Airbus A319 Corporate Jet ALI Document ref. AI/SE-M2/95A.1038/99.

The new Airbus A318/A319/A320/A321 ALS Part 2 Revision 02, which includes also Airbus A319 Corporate Jet, introduces more restrictive DT ALI maintenance instructions. Failure to comply with these instructions could result in an unsafe condition.

Application of new DT ALI tasks 531129-02-2 and 531129-02-3 introduces initial and repetitive inspections of the windshield central lower node continuity fittings, replacing the one time inspection for that subject, previously required by EASA AD 2011-0231 [http://ad.easa.europa.eu/blob/easa_ad_2011_0231.pdf] [associated with FAA AD 2013-13-03, Amendment 39-17491 (78 FR 41280, July 10, 2013)].

For the reasons described above, this [EASA] AD retains the requirements of EASA AD 2010-0071R1 * * *, which are superseded, and requires compliance with all maintenance tasks as described in Airbus A318/A319/A320/A321 ALS part 2 at Revision 02.

The unsafe condition is fatigue cracking, accidental damage, or corrosion in principal structural elements, and possible failure of certain life limited parts, which could result in reduced structural integrity of the airplane. You may examine the MCAI in the AD docket on the Internet at http://www.regulations.gov/#!documentDetail;D=FAA-2013-0002.

Comments

We gave the public the opportunity to participate in developing this AD. The following presents the comments received on the SNPRM (79 FR 30492, May 28, 2014) and the FAA's response to each comment.

Request To Extend Compliance Time

United Airlines (UAL), Delta Airlines (DAL), and Virgin America asked that we extend the compliance time for incorporation of Airbus A318/A319/A320/A321 ALS Part 2—Damage-Tolerant Airworthiness Limitation Items (DT ALI), Revision 02, dated May 28, 2013. UAL stated that it would like to manage the task incorporation on an individual basis. UAL proposed that we revise the compliance times specified in paragraph (n) of the SNPRM (79 FR 30492, May 28, 2014) as follows: “After the effective date of this AD, incorporate each task into the program within the specific threshold/interval provided.” DAL and Virgin America stated that, to provide time to revise the maintenance program and perform any related tasks that might exceed the compliance thresholds specified in the ALI, the grace period specified in paragraph (n) of the SNPRM should be changed from 4 to 12 months.

DAL asked for more time to update the maintenance program to incorporate Airbus A318/A319/A320/A321 ALS Part 2—Damage-Tolerant Airworthiness Limitation Items (DT ALI), Revision 02, dated May 28, 2013. DAL and Virgin America requested 9 months, as opposed to 30 days, because 9 months was the allowed compliance time for incorporating airworthiness limitation items into the maintenance program required by AD 2011-14-06, Amendment 39-16741 (76 FR 42024, July 18, 2011).

We acknowledge the commenters' concerns; however, we do not agree to extend the compliance times for incorporation of the tasks into the maintenance program. We based the compliance times in this AD primarily on our assessment of the safety risk. Since some safety issues are more time-sensitive than others, we consider the overall risk to the fleet, including the severity of the failure and the likelihood of the occurrence of the failure. In this case, the primary reason for requiring incorporation of Airbus A318/A319/A320/A321 ALS Part 2—Damage-Tolerant Airworthiness Limitation Items (DT ALI), Revision 02, dated May 28, 2013, is to cover extension of the design service goal and preliminary results from widespread fatigue damage.

Therefore, we do not agree to extend the grace period or compliance times for incorporation of the tasks into the maintenance program. However, under the provisions of paragraph (p)(1) of this AD, we will consider requests for approval of extending the compliance time based on the current status of the maintenance and inspection programs relative to the ALI tasks if sufficient data are submitted to substantiate that it would provide an acceptable level of safety. We have not changed this AD in this regard.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH.

Conclusion

We reviewed the relevant data, considered the comments received, and determined that air safety and the public interest require adopting this AD with the changes described previously and minor editorial changes. We have determined that these minor changes:

• Are consistent with the intent that was proposed in the SNPRM (79 FR 30492, May 28, 2014) for correcting the unsafe condition; and

• Do not add any additional burden upon the public than was already proposed in the SNPRM (79 FR 30492, May 28, 2014).

We also determined that these changes will not increase the economic burden on any operator or increase the scope of this AD.

Costs of Compliance

We estimate that this AD affects 851 airplanes of U.S. registry.

The actions required by AD 2011-14-06, Amendment 39-16741 (76 FR 42024, July 18, 2011), and retained in this AD take about 1 work-hour per product, at an average labor rate of $85 per work-hour. Based on these figures, the estimated cost of the required actions is $85 per product.

We also estimate that it will take about 1 work-hour per product to comply with the new basic requirements of this AD. The average labor rate is $85 per work-hour. Based on these figures, we estimate the cost of this AD on U.S. operators to be $72,335, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0692; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-14-06, Amendment 39-16741 (76 FR 42024, July 18, 2011), and adding the following new AD:

2014-23-15 Airbus: Amendment 39-18031. Docket No. FAA-2013-0692; Directorate Identifier 2012-NM-024-AD.

(a) Effective Date

This AD becomes effective March 2, 2015.

(b) Affected ADs

This AD replaces AD 2011-14-06, Amendment 39-16741 (76 FR 42024, July 18, 2011).

(c) Applicability

This AD applies to all Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes.

(d) Subject

Air Transport Association (ATA) of America Code 05, Periodic Inspections.

(e) Reason

This AD was prompted by a determination that more restrictive limitations are necessary. We are issuing this AD to prevent fatigue cracking, accidental damage, or corrosion in principal structural elements, and possible failure of certain life limited parts, which could result in reduced structural integrity of the airplane.

(f) Compliance

Comply with this AD within the compliance times specified, unless already done.

(g) Retained Revision of Airworthiness Limitations Section (ALS) To Incorporate Safe Life Airworthiness Limitation Items (ALIs)

This paragraph restates the requirements of paragraph (g) of AD 2011-14-06, Amendment 39-16741 (76 FR 42024, July 18, 2011). For Model A318-111 and -112 airplanes; Model A319-111, -112, -113, -114, -115, -131, -132, and -133 airplanes; Model A320-111, -211, -212, -214, -231, -232, and -233 airplanes; and Model A321-111, -112, -131, -211, -212, -213, -231, and -232 airplanes: Within 3 months after November 7, 2007 (the effective date of AD 2007-20-05, Amendment 39-15215 (72 FR 56262, October 3, 2007)), revise the ALS of the Instructions for Continued Airworthiness to incorporate Sub-part 1-2, “Life Limits,” and Sub-part 1-3, “Demonstrated Fatigue Lives,” of Airbus A318/A319/A320/A321 ALS Part 1—Safe Life Airworthiness Limitation Items, Revision 00, dated February 28, 2006. Accomplish the actions in Sub-part 1-2, “Life Limits,” and Sub-part 1-3, “Demonstrated Fatigue Lives,” of Airbus A318/A319/A320/A321 ALS Part 1—Safe Life Airworthiness Limitation Items, Revision 00, dated February 28, 2006, at the times specified in Sub-part 1-2, “Life Limits,” and Sub-part 1-3, “Demonstrated Fatigue Lives,” of Airbus A318/A319/A320/A321 ALS Part 1—Safe Life Airworthiness Limitation Items, dated February 28, 2006, except as provided by paragraph (i) of this AD. Accomplishing the actions required by paragraph (j) of this AD terminates the requirements of this paragraph.

(h) Retained Revision to ALS To Incorporate Damage Tolerant ALIs

This paragraph restates certain provisions of paragraph (h) of AD 2011-14-06, Amendment 39-16741 (76 FR 42024, July 18, 2011). For Model A318-111 and -112 airplanes; Model A319-111, -112, -113, -114, -115, -131, -132, and -133 airplanes; Model A320-111, -211, -212, -214, -231, -232, and -233 airplanes; and Model A321-111, -112, -131, -211, -212, -213, -231, and -232 airplanes; except Model A319 airplanes on which Airbus Modifications 28238, 28162, and 28342 have been incorporated in production: Within 14 days after November 7, 2007 (the effective date of AD 2007-20-05, Amendment 39-15215 (72 FR 56262, October 3, 2007)), revise the ALS of the Instructions for Continued Airworthiness to incorporate Airbus A318/A319/A320/A321 Airworthiness Limitation Items, Document AI/SE-M4/95A.0252/96, Issue 7, dated December 2005 (approved by the European Aviation Safety Agency (EASA) on February 7, 2006); Issue 08, dated March 2006 (approved by the EASA on January 4, 2007); or Issue 09, dated November 2006 (approved by the EASA on May 21, 2007). Accomplish the actions in Airbus A318/A319/A320/A321 Airworthiness Limitation Items, Document AI/SE-M4/95A.0252/96, Issue 7, dated December 2005; Issue 08, dated March 2006; or Issue 09, dated November 2006; at the times specified in Airbus A318/A319/A320/A321 Airworthiness Limitation Items, Document AI/SE-M4/95A.0252/96, Issue 7, dated December 2005; Issue 08, dated March 2006; or Issue 09, dated November 2006; as applicable; except as provided by paragraph (i) of this AD. Accomplishing the actions required by paragraph (j) or (n) of this AD, as applicable, terminates the requirements of this paragraph.

(i) Retained Grace Period for New or More Restrictive Actions

This paragraph restates certain provisions of paragraph (i) of AD 2011-14-06, Amendment 39-16741 (76 FR 42024, July 18, 2011). For Model A318-111 and -112 airplanes; Model A319-111, -112, -113, -114, -115, -131, -132, and -133 airplanes; Model A320-111, -211, -212, -214, -231, -232, and -233 airplanes; and Model A321-111, -112, -131, -211, -212, -213, -231, and -232 airplanes: For any new or more restrictive life-limit introduced with Sub-part 1-2, “Life Limits,” and Sub-part 1-3, “Demonstrated Fatigue Lives,” of Airbus A318/A319/A320/A321 ALS Part 1—Safe Life Airworthiness Limitation Items, Revision 00, dated February 28, 2006, replace the part at the time specified in Sub-part 1-2, “Life Limits,” and Sub-part 1-3, “Demonstrated Fatigue Lives,” of Airbus A318/A319/A320/A321 ALS Part 1—Safe Life Airworthiness Limitation Items, Revision 00, dated February 28, 2006, or within 6 months after November 7, 2007 (the effective date of AD 2007-20-05, Amendment 39-15215 (72 FR 56262, October 3, 2007)), whichever is later. Accomplishing the actions required by paragraph (n) of this AD terminates the requirements of this paragraph.

(j) Retained Revision of ALS To Incorporate Damage-Tolerant ALIs With Revised Compliance Times

This paragraph restates the requirements of paragraph (j) of AD 2011-14-06, Amendment 39-16741 (76 FR 42024, July 18, 2011), with revised compliance times. Within 9 months after August 22, 2011 (the effective date of AD 2011-14-06): Revise the maintenance program by incorporating all maintenance requirements and associated airworthiness limitations specified in the Airbus A318/A319/A320/A321 Airworthiness Limitation Items, Document AI/SE-M4/95A.0252/96, Issue 10, dated October 2009; or Issue 11, dated September 2010. Comply with all applicable maintenance requirements and associated airworthiness limitations included in Airbus A318/A319/A320/A321 Airworthiness Limitation Items, Document AI/SE-M4/95A.0252/96, Issue 10, dated October 2009; or Issue 11, dated September 2010; except as provided by paragraph (k) of this AD. Accomplishing the actions required by this paragraph terminates the requirements of paragraph (h) of this AD. Accomplishing the actions required by paragraph (n) of this AD terminates the requirements of this paragraph.

(k) Retained Special Compliance Times for Certain Tasks

This paragraph restates the requirements of paragraph (k) of AD 2011-14-06, Amendment 39-16741 (76 FR 42024, July 18, 2011), with changes to table 1 to paragraph (k) of this AD. For new and more restrictive tasks introduced with Airbus A318/A319/A320/A321 Airworthiness Limitation Items, Document AI/SE-M4/95A.0252/96, Issue 10, dated October 2009; or Issue 11, dated September 2010; as specified in table 1 to paragraph (k) of this AD: The initial compliance time for doing the tasks is specified in table 1 to paragraph (k) of this AD. Accomplishing the actions required by paragraph (n) of this AD terminates the requirements of this paragraph.

Table 1 to Paragraph (k) of This AD—Compliance Times for Tasks
Task | Applicability (as specified in the applicability column of the task) | Compliance time, whichever occurs later
545102-01-6 | Group 19-1A CFM, Group 19-1B CFM, and Model A320-200 airplanes with CFM Industrial (CFM)/International Aero Engine (IAE) engines | The threshold as defined in Airbus A318/A319/A320/A321 Airworthiness Limitation Items, Document AI/SE-M4/95A.0252/96, Issue 10, dated October 2009; or Issue 11, dated September 2010 | Within 2,000 flight cycles or 5,500 flight hours, after August 22, 2011 (the effective date of AD 2011-14-06, Amendment 39-16741 (76 FR 42024, July 18, 2011)), whichever occurs first.
545102-01-7 | Model A320-100 series airplanes | The threshold as defined in Airbus A318/A319/A320/A321 Airworthiness Limitation Items, Document AI/SE-M4/95A.0252/96, Issue 10, dated October 2009; or Issue 11, dated September 2010 | Within 2,000 flight cycles or 2,000 flight hours, after August 22, 2011 (the effective date of AD 2011-14-06, Amendment 39-16741 (76 FR 42024, July 18, 2011)), whichever occurs first.
572050-01-1 or alternative task 572050-02-1 | Group 19-1A and Group 19-1B airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-4 or alternative task 572050-02-4 | Model A320-200 series airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-5 or alternative task 572050-02-5 | Group 21-1A airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
572050-01-7 or alternative task 572050-02-7 | Model A320-100 series airplanes | At the time of the next due accomplishment of any one of the tasks 572004, 572020, or 572053 as currently described in the Airbus A318/A319/A320/A321 Airworthiness Limitation Items, Document AI/SE-M4/95A.0252/96, Issue 7, dated December 2005; Issue 08, dated March 2006; or Issue 09, dated November 2006 | Within 6 months after August 22, 2011 (the effective date of AD 2011-14-06, Amendment 39-16741 (76 FR 42024, July 18, 2011)).
534132-01-1 | Model A320 PRE 30748 airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)), without exceeding the previous threshold/interval as defined in Airbus A318/A319/A320/A321 Airworthiness Limitation Items, Document AI/SE-M4/95A.0252/96, Issue 7, dated December 2005; Issue 08, dated March 2006; or Issue 09, dated November 2006.
531118-01-1 | Model A318 (except (A318-121 and -122), Group 19-1A, Group 19-1B, and Model A320 and A321 series airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)), without exceeding the previous threshold/interval as defined in Airbus A318/A319/A320/A321 Airworthiness Limitation Items, Document AI/SE-M4/95A.0252/96, Issue 7, dated December 2005; Issue 08, dated March 2006; or Issue 09, dated November 2006.
531118-01-1 | Model A318-121 and -122 airplanes | The threshold/interval as defined in Airbus A318/A319/A320/A321 Airworthiness Limitation Items, Document AI/SE-M4/95A.0252/96, Issue 10, dated October 2009; or Issue 11, dated September 2010 | Within 100 days after August 22, 2011 (the effective date of AD 2011-14-06, Amendment 39-16741 (76 FR 42024, July 18, 2011)).

Note 1 to table 1 to paragraph (k) of this AD: ALI Task 572050 refers to the outer wing dry bay and is comprised of extracts from three ALI Tasks 572004, 572020, and 572053. The threshold of ALI Task 572050 for the whole dry bay area is that of the lowest threshold of the source ALI tasks, i.e., that of ALI Task 572053.

(l) Retained Limitation: No Alternative Life Limits, Inspections, or Inspection Intervals After Accomplishment of the Actions Specified in Paragraphs (g) and (h) of This AD

This paragraph restates the requirements of paragraph (l) of AD 2011-14-06, Amendment 39-16741 (76 FR 42024, July 18, 2011). After the actions specified in paragraphs (g) and (h) of this AD have been accomplished, no alternative life limits, inspections, or inspection intervals may be used, except as provided by paragraphs (i) and (m) of this AD, and except as required by paragraphs (j) and (n) of this AD.

(m) Retained Limitation: No Alternative Life Limits, Inspections, or Inspection Intervals After Accomplishment of the Actions Specified in Paragraph (j) of This AD

This paragraph restates the requirements of paragraph (m) of AD 2011-14-06, Amendment 39-16741 (76 FR 42024, July 18, 2011). After the actions specified in paragraph (j) of this AD have been accomplished, no alternative life limits, inspections, or inspection intervals may be used, except as required by paragraph (n) of this AD.

(n) New Maintenance or Inspection Program Revision

Within 30 days after the effective date of this AD, revise the maintenance or inspection program, as applicable, to incorporate the ALIs specified in paragraphs (n)(1), (n)(2), and (n)(3) of this AD. The initial compliance time for accomplishing the actions is at the applicable time specified in the ALIs specified in paragraphs (n)(1), (n)(2), and (n)(3) of this AD; or within 4 months after the effective date of this AD; whichever occurs later. Accomplishing these actions terminates the requirements of paragraphs (g), (h), (i), (j), and (k) of this AD.

(1) Airbus A318/A319/A320/A321 ALS Part 1—Safe Life Airworthiness Limitation Items, Revision 02, dated May 13, 2011.

(2) Airbus A318/A319/A320/A321 ALS Part 2—Damage-Tolerant Airworthiness Limitation Items (DT ALI), Revision 02, dated May 28, 2013.

(3) Airbus A318/A319/A320/A321 ALS Part 4—Ageing Systems Maintenance, dated January 8, 2008.

(o) New Limitation: No Alternative Actions, Intervals, and/or Critical Design Configuration Control Limitations (CDCCLs)

After accomplishing the revision required by paragraph (n) of this AD, no alternative actions (e.g., inspections), intervals, and/or CDCCLs may be used unless the actions, intervals, and/or CDCCLs are approved as an alternative method of compliance (AMOC) in accordance with the procedures specified in paragraph (p)(1) of this AD.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2011-14-06, Amendment 39-16741 (76 FR 42024, July 18, 2011), are approved as AMOCs for the corresponding actions specified in this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(q) Related Information

Refer to Mandatory Continuing Airworthiness Information (MCAI) European Aviation Safety Agency Airworthiness Directives 2012-0008, dated January 16, 2012; and 2013-0147, dated July 16, 2013; for related information. You may examine the MCAI in the AD docket on the Internet at http://www.regulations.gov/#!documentDetail;D=FAA-2013-0692-0002.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus A318/A319/A320/A321 ALS Part 1—Safe Life Airworthiness Limitation Items, Revision 02, dated May 13, 2011. The revision level of this document is identified on only the title page and in the Record of Revisions. The revision date is not identified on the title page of this document.

(ii) Airbus A318/A319/A320/A321 ALS Part 2—Damage-Tolerant Airworthiness Limitation Items (DT ALI), Revision 02, dated May 28, 2013. The revision date of this document is not identified on the title page of this document.

(iii) Airbus A318/A319/A320/A321 ALS Part 4—Ageing Systems Maintenance, dated January 8, 2008. The revision date of this document is not identified on the title page of this document.

(3) The following service information was approved for IBR on August 22, 2011 (76 FR 42024, July 18, 2011).

(i) Airbus A318/A319/A320/A321 Airworthiness Limitation Items, Document AI/SE-M4/95A.0252/96, Issue 10, dated October 2009. The revision level of this document is identified on only the title page and in the Record of Revisions.

(ii) Airbus A318/A319/A320/A321 Airworthiness Limitation Items, Document AI/SE-M4/95A.0252/96, Issue 11, dated September 2010. The revision level of this document is identified on only the title page and in the Record of Revisions.

(4) The following service information was approved for IBR on November 7, 2007 (72 FR 56262, October 3, 2007).

(i) Airbus A318/A319/A320/A321 ALS Part 1—Safe Life Airworthiness Limitation Items, Revision 00, dated February 28, 2006.

(ii) Airbus A318/A319/A320/A321 Airworthiness Limitation Items, Document AI/SE-M4/95A.0252/96, Issue 7, dated December 2005 (approved by the European Aviation Safety Agency (EASA) on February 7, 2006).

Note 2 to paragraph (r)(4)(ii) of this AD: This document contains the following errors: The Summary of Changes is comprised of 11 pages, which are all identified as Page 2—LEP of Section LEP instead of Page 1—SOC [through] Page 11—SOC of Section SOC; the List of Effective Pages only refers to Page 1—SOC for the Summary of Changes. The List of Effective Pages is comprised of two pages, and both of those pages are identified as Page 2—LEP. The first page of Section 2 is identified as Page 6 of Section 1 and is not referred to in the List of Effective Pages.

(iii) Airbus A318/A319/A320/A321 Airworthiness Limitation Items, Document AI/SE-M4/95A.0252/96, Issue 08, dated March 2006 (approved by the EASA on January 4, 2007).

(iv) Airbus A318/A319/A320/A321 Airworthiness Limitation Items, Document AI/SE-M4/95A.0252/96, Issue 09, dated November 2006 (approved by the EASA on May 21, 2007).

(5) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on December 23, 2014.
Jeffrey E. Duven,
Manager, Transport Airplane Directorate, Aircraft Certification Service.

[FR Doc. 2015-01257 Filed 1-23-15; 8:45 am]

BILLING CODE 4910-13-P